DEPARTMENT OF ENERGY

[GDO Docket No. EA-408-B]

Application for Renewal of Authorization To Export Electric Energy; Nalcor Energy Marketing Corporation

AGENCY: Grid Deployment Office, Department of Energy.

ACTION: Notice of application.

SUMMARY: Nalcor Energy Marketing Corporation (NEMC or the Applicant) has applied for renewal of authorization to transmit electric energy from the United States to Canada pursuant to the Federal Power Act.

DATES: Comments, protests, or motions to intervene must be submitted on or before July 16, 2025.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On April 16, 2020, DOE issued Order No. EA-408-A to NEMC to transmit electric energy from the United States to Canada for a period of five years, effective on May 22, 2020. On February 20, 2025, NEMC filed an application (Application or App.) for renewal of its export authority for a term of five years. App. at 1.

According to the Application, NEMC is a public utility and a power marketer that engages in transactions that involve “the export of electricity from the United States wholesale energy markets into Canada . . . .” Id. at 2. NEMC represents that it has principal place of business in St. John's, Newfoundland and Labrador, Canada and that it is a wholly-owned subsidiary of Newfoundland and Labrador Hydro, a Crown corporation wholly-owned by the Province of Newfoundland and Labrador. Id. at 1. The Applicant states that the Federal Energy Regulatory Commission (FERC) granted it market-based rate authority in Docket No. ER14-2579-000. Id. at 2.

NEMC represents that it “does not own any electric power generation or transmission facilities and does not have a franchised electric power service area within either the United States or Canada.” App. at 2. The Applicant represents that it “will purchase electric energy from wholesale energy markets operated by NYSIO, ISO-NE or other organized electric markets . . . as well as through bilateral, voluntary agreements with electric or municipal utilities, cooperatives, and federal power marketing agencies[.]” Id. at 4. Moreover, NEMC states that “the electric energy that NEMC will export on either a firm or interruptible basis will not impair the sufficiency of the electric power supply within the United States” Id. at 5. The Applicant also asserts that its “exports of electric energy to Canada will not impede or tend to impede the regional coordination of electric utility planning or operations.” Id. at 5. NEMC further states that it “will maintain any and all regulatory approvals required [for the] export of energy from the United States to Canada” and that it “will comply with the terms and conditions contained in the export authorizatio[n] . . . .” Id.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning NEMC's Application should be clearly marked with GDO Docket No. EA-408-B. Additional copies are to be provided directly to Walter Parsons, Nalcor Energy Marketing Corporation, 500 Columbus Drive—Hydro Place, P.O. Box 15200, St. John's, NL A1B0P5, Canada, WalterParsons@nlh.nl.ca and Joseph Nelson, Van Ness Feldman, LLP, 2000 Pennsylvania Ave. NW, Suite 6000, Washington, DC 20006, jbn@vnf.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority

This document of the Department of Energy was signed on June 10, 2025, by Chris Wright, Secretary of Energy, U.S. Department of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 12, 2025.
Treena V. Garrett,
Federal Register Liaison Officer, U.S. Department of Energy.

[FR Doc. 2025-11005 Filed 6-13-25; 8:45 am]

BILLING CODE 6450-01-P